DEPARTMENT OF COMMERCE

National Oceanic and Atmospheric Administration

RIN 0648-XW17

North Pacific Fishery Management Council; Public Meeting

AGENCY: National Marine Fisheries Service (NMFS), National Oceanic and Atmospheric Administration (NOAA), Commerce.

ACTION: Notice of a public meeting.

SUMMARY: North Pacific Fishery Management Council will host a meeting of the Council Coordination Committee (CCC), consisting of the Regional Fishery Management Council chairs, vice chairs, and executive directors on May 19-20-21, 2010.

DATES: The meeting will begin at 1 p.m. on Wednesday, May 19, 2010, recess at 5:30 p.m. or when business is complete; reconvene at 8 a.m. on Thursday, May 20, 2010, recess at 5:15 p.m. or when business is complete; and reconvene at 8 a.m. on Friday, 21, 2010 and adjourn by 12 noon.

ADDRESSES: The meeting will be held at the Hotel Captain Cook, 939 W 5th Avenue, Anchorage, AK 99501.

Council address: North Pacific Fishery Management Council, 605 W. 4th Avenue, Suite 306, Anchorage, AK 99501-2252.

FOR FURTHER INFORMATION CONTACT: Chris Oliver; telephone: (907) 271-2809.

SUPPLEMENTARY INFORMATION:

Agenda

Wednesday, May 19, 1 p.m.

Welcome comments and open session with Councils; Report from North Pacific Research Board/Alaska Ocean Observing System; adopt the CCC Terms of Reference; discuss Ocean Policy Task Force and Coastal and Marine Spatial Planning; Catch Share Implementation Plan.

Thursday, May 20, 8 a.m.

Council progress on developing Catch Share Programs; Annual Catch Limits (ACLs), and Scientific Statistical Committee integration. Updates on National Environmental Policy Act (NEPA); Marine Protection Area (MPA) nominations; President's budget and other budget issues, 2010 National SSC workshop, National Standard 2 Guidelines; Council/NMFS relations concerning regulatory review process; Outreach activities; Recreational Fishery Report; and Endangered Species/Marine Mammal Protection Act issues.

Friday, May 21, 8 a.m.

Discuss Statement of Organizations, Operations and Procedures (SOPPS); Enforcement Issues; 5-year grant application process; and discuss the January 2011 CCC meeting agenda.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 27, 2010.
William D. Chappell,
Acting Director, Office of Sustainable Fisheries, National Marine Fisheries Service.

[FR Doc. 2010-10186 Filed 4-30-10; 8:45 am]

BILLING CODE 3510-22-S